DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-0361.

Project: Mandatory Guidelines for Federal Workplace Drug Testing Programs (OMB No. 0930-0158)—Extension

SAMHSA will request OMB approval for extension of the Federal Drug Testing Custody and Control Form (CCF) for federal agency and federally regulated drug testing programs which must comply with the HHS Mandatory Guidelines for Federal Workplace Drug Testing Programs using Urine (UrMG) dated January 23, 2017 (82 FR 7920) and using Oral Fluid (OFMG) dated October 25, 2019, and OMB approval for information provided by test facilities (laboratories and Instrumented Initial Test Facilities, IITFs) for the National Laboratory Certification Program (NLCP).

The CCF is used by all federal agencies and employers regulated by the Department of Transportation (DOT) and the Nuclear Regulatory Commission (NRC) to document the collection and chain of custody of urine specimens at the collection site, for HHS-certified test facilities to report results, and for Medical Review Officers (MROs) to document and report a verified result. SAMHSA allows the use of the CCF as a paper or electronic form.

Laboratories and IITFs seeking HHS certification under the NLCP must complete and submit the NLCP application form. The NLCP application form remains without change. Prior to an inspection, an HHS-certified laboratory or IITF is required to submit specific information regarding its procedures. Collecting this information prior to an inspection allows the inspectors to thoroughly review and understand the testing procedures before arriving for the onsite inspection. The NLCP information checklist is without change.

The current OMB-approved CCF has an August 31, 2023 expiration date. SAMHSA plans to submit the CCF without content revisions for OMB approval.

The annual total burden estimates for the CCF, the NLCP application, the NLCP information checklist, and the NLCP recordkeeping requirements are shown in the following table.

Form/respondent | Number of respondents | Responses per respondent | Total number of responses | Burden per response (hours) | Annual burden (hours) | Hourly wage rate ($) | Total cost ($) ³
Custody and Control Form: ¹
Donor | 6,726,610 | 1 | 6,726,610 | 0.08 | 538,129 | 25 | 13,453,225
Collector | 6,726,610 | 1 | 6,726,610 | 0.07 | 470,683 | 15 | 7,060,245
Laboratory | 6,726,610 | 1 | 6,726,610 | 0.05 | 336,331 | 35 | 11,771,585
IITF | 1 | 0 | 0 | 0.05 | 0 | 35 | 0
Medical Review Officer | 6,726,610 | 1 | 6,726,610 | 0.05 | 336,331 | 150 | 50,449,650
NLCP Application Form: ²
Laboratory | 10 | 1 | 10 | 3 | 30 | 35 | 1.050
IITF | 0 | 0 | 0 | 3 | 0 | 35 | 0
Sections B and C—NLCP Information Checklist:
Laboratory | 24 | 1 | 24 | 1 | 24 | 35 | 840
IITF | 1 | 1 | 1 | 1 | 1 | 35 | 35
Record Keeping:
Laboratory | 24 | 1 | 24 | 250 | 6,000 | 35 | 210,000
IITF | 0 | 0 | 0 | 250 | 0 | 35 | 0
Total | 6,726,669 |  | 26,906,499 |  | 1,687,529 |  | 82,946,625
¹ Note: The time it takes each respondent (i.e., donor, collector, laboratory, IITF, and MRO) to complete the Federal CCF is based on an average estimated number of minutes it would take each respondent to complete their designated section of the form or regulated entities (e.g., HHS, DOT, and NRC).
¹ Note: The above number of responses is based on an estimate of the total number of specimens collected annually (approximately 150,000 federal agency specimens; 6,500,000 DOT regulated specimens, and 145,000 NRC regulated specimens).
² Note: The estimate of 10 applications per year is based on requests for a laboratory application (urine or oral fluid) in the past year (i.e., at the time of these calculations) and only 1 IITF application submitted after October 1, 2010.
² Note: The estimate of three burden hours to complete the application has not changed.
³ Note: At the time of these calculations, there were 20 certified laboratories and one certified IITF undergoing 2 maintenance inspections each year, and 4 applicant laboratories.
³ Note: The wage rates listed for each respondent are based on estimated average hourly wages for the individuals performing these tasks.

Written comments and recommendations for the proposed information collection should be sent within 30 days of publication of this notice to www.reginfo.gov/public/do/PRAMain. Find this particular information collection by selecting “Currently under 30-day Review—Open for Public Comments” or by using the search function.

Alicia Broadus,
Public Health Advisor.

[FR Doc. 2023-05308 Filed 3-14-23; 8:45 am]

BILLING CODE 4162-20-P